DEPARTMENT OF ENERGY

Federal Energy Regulatory Commission

[Project No. 13687-000; Project No. 13688-000]

City of Oberlin, OH; Free Flow Power Missouri 1, LLC; Notice of Competing Preliminary Permit Applications Accepted for Filing and Soliciting Comments, Motions To Intervene, and Competing Applications

April 12, 2010.

On March 24, 2010, the City of Oberlin, Ohio (Oberlin) and Free Flow Power Missouri 1, LLC (Free Flow Power) filed preliminary permit applications, pursuant to section 4(f) of the Federal Power Act, proposing to study the feasibility of the Pike Island Hydroelectric Project, to be located at the U.S. Army Corps of Engineers' Pike Island Locks and Dam (Lock and Dam) on the Ohio River in Ohio County, West Virginia, and Belmont County, Ohio. The Lock and Dam consists of a gated dam and two lock chambers.

Oberlin's proposed project would consist of: (1) A new 155-foot-wide, 71-foot-tall water intake structure; (2) a new 155-foot-wide, 189-foot-long powerhouse containing three turbine generating units with a total capacity of 49.5 megawatts (MW); (3) a new 350-foot-long, 160-foot-wide tailrace channel; (4) a new 8.5-mile-long, 138 kilovolt (kV) transmission line; and (5) appurtenant facilities. The project would have an average annual generation of 256 gigawatt-hours (GWh).

Oberlin Contact: Phillip E. Meier, Assistant Vice President, Hydro Development, American Municipal Power, Inc., 1111 Schrock Road, Suite 100, Columbus, OH 43229, (614) 540-9130.

Free Flow Power's proposed project would consist of: (1) A new 225-foot-wide, 50-foot-long water intake structure equipped with trashracks, sluice gates, and intake gates; (2) a new 160-foot-wide, 140-foot-long powerhouse containing three turbine generating units with a total capacity of 45.0 MW; (3) a new 500-foot-long, 200-foot-wide tailrace channel; (4) a new 1.5-mile-long, 138 kV transmission line; and (5) appurtenant facilities. The project would have an average annual generation of 225 GWh.

Free Flow Power Contact: Ramya Swaminathan, Free Flow Power Corporation, 33 Commercial Street, Gloucester, MA 01930, (978) 283-2822.

FERC Contact: John Ramer, (202) 502-8969 or john.ramer@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426. More information about the projects can be viewed or printed on the “eLibrary” link of the Commission's Web site at http://www.ferc.gov/docs-filing/elibrary.asp. Enter the docket number (P-13687-000 or P-13688-000) in the docket number field to access the document.

Kimberly D. Bose,
Secretary.

[FR Doc. 2010-8997 Filed 4-19-10; 8:45 am]

BILLING CODE 6717-01-P